ENVIRONMENTAL PROTECTION AGENCY

[EPA-HQ-OPPT-2013-0127; FRL-9380-1]

Certain New Chemicals; Receipt and Status Information

AGENCY: Environmental Protection Agency (EPA).

ACTION: Notice.

SUMMARY: The Toxic Substances Control Act (TSCA) requires any person who intends to manufacture (defined by statute to include import) a new chemical (i.e., a chemical not on the TSCA Chemical Substances Inventory (TSCA Inventory)) to notify EPA and comply with the statutory provisions pertaining to the manufacture of new chemicals. In addition under TSCA, EPA is required to publish in the Federal Register a notice of receipt of a premanufacture notice (PMN) or an application for a test marketing exemption (TME), and to publish in the Federal Register periodic status reports on the new chemicals under review and the receipt of notices of commencement (NOC) to manufacture those chemicals. This document, which covers the period from January 14, 2013 to February 8, 2013, and provides the required notice and status report, consists of the PMNs and TMEs, both pending or expired, and the NOC to manufacture a new chemical that the Agency has received under TSCA section 5 during this time period.

DATES: Comments identified by the specific PMN number or TME number, must be received on or before April 22, 2013.

ADDRESSES: Submit your comments, identified by docket identification (ID) number EPA-HQ-OPPT-2013-[insert Docket ID no.], and the specific PMN number or TME number for the chemical related to your comment, by one of the following methods:

• Federal eRulemaking Portal: http://www.regulations.gov. Follow the online instructions for submitting comments.

• Mail: Document Control Office (7407M), Office of Pollution Prevention and Toxics (OPPT), Environmental Protection Agency, 1200 Pennsylvania Ave. NW., Washington, DC 20460-0001.

• Hand Delivery: OPPT Document Control Office (DCO), EPA East Bldg., Rm. 6428, 1201 Constitution Ave. NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7408M), Office of Pollution Prevention and Toxics, Environmental Protection Agency, 1200 Pennsylvania Ave. NW., Washington, DC 20460-0001; telephone number: (202) 564-8951; fax number: (202) 564-8955; email address: Mudd.Bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from January 14, 2013 to February 8, 2013, consists of the PMNs and TMEs, both pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—33 PMNs Received From 1/14/13 to 2/08/13
Case No. | Received date | Projected notice end date | Manufacturer/importer | Use | Chemical
P-13-0216 | 1/14/2013 | 4/13/2013 | CBI | (G) Electrographic toner | (G) Polycarboxylic acids, polymer with polyols.
P-13-0217 | 1/14/2013 | 4/13/2013 | CBI | (S) Extreme pressure, anti-wear additive for greases and oils | (G) Antimony tris(dialkyldithiocarbamate).
P-13-0218 | 1/15/2013 | 4/14/2013 | Mitsui Chemicals America, Inc | (G) Substance for molding automotive components | (G) Alkenyl substituted carbopolycycle, polymer with alkene, alkylidene substituted carbopolycycle and alkene.
P-13-0220 | 1/15/2013 | 4/14/2013 | Teknor Apex | (S) Plasticizer for pvc resin | (G) Aliphatic polyester.
P-13-0221 | 1/15/2013 | 4/14/2013 | CBI | (G) Manufacturing process aid | (S) Copper, chloro[tris(2-chloroethyl) phosphite- P]-.
P-13-0222 | 1/15/2013 | 4/14/2013 | CBI | (S) Refinery feedstock | (G) Synthetic crude oil.
P-13-0223 | 1/16/2013 | 4/15/2013 | CBI | (G) Photoinitiator for coatings and inks | (G) Acetophenone derivative.
P-13-0224 | 1/16/2013 | 4/15/2013 | CBI | (G) Stabilizer for thermoplastics | (G) Organo barium salts.
P-13-0225 | 1/16/2013 | 4/15/2013 | CBI | (G) Stabilizer for thermoplastics | (G) Organo zinc salts.
P-13-0226 | 1/16/2013 | 4/15/2013 | CBI | (G) Destructive use | (G) Oranometallic polymerization catalyst intermediate.
P-13-0227 | 1/16/2013 | 4/15/2013 | International Flavors & Fragrances, Inc | (S) Fragrance ingredient for use in fragrances for soaps, detergent, cleaners and other household products | (S) 2-butenoic acid, 1-ethyl-2-methylpropyl ester, (2E)-.
P-13-0228 | 1/17/2013 | 4/16/2013 | CBI | (G) Open, non-dispersive | (G) Modified brominated isobutylene-isoprene copolymer.
P-13-0229 | 1/17/2013 | 4/16/2013 | Kimberly-Clark Corporation | (G) Binder for fiber (open, non-dispersive use) | (G) Acrylic copolymer.
P-13-0230 | 1/17/2013 | 4/16/2013 | CBI | (G) Resin for waterborne inks | (G) Alkylmethacrylate polymer, with alkyl acrylate, aromatic vinyl monomer and alkyl acrylate—ammonium persulfate initiated.
P-13-0231 | 1/17/2013 | 4/16/2013 | CBI | (G) Resin for waterborne inks | (G) Alkylmethacrylate polymer, with alkyl acrylate, aromatic vinyl monomer and alkyl acrylate.
P-13-0232 | 1/18/2013 | 4/17/2013 | H.B. Fuller Company | (G) Industrial adhesive | (G) Benzenedicarboxylic acid, polymer with substituted alkanediol, dodecanedioic acid, 1,2-ethanediol, alkanediol acid, alkanediol,.alpha.-hydro-.omega.-hydroxypoly[oxyalkanediyl], 1,3-isobenzofurandione, methylene diphneyl diisocyanate, 2-oxepanone, 2,2'-oxybis[ethanol] and polymethylene polyphenylene isocyanate.
P-13-0233 | 1/18/2013 | 4/17/2013 | Henkel Corporation | (S) Site limited initator in polymerization reactions | (S) Hexanedioicacid, 2,5-dibromo-, diethyl ester (6ci, 7ci, 8ci, 9ci).
P-13-0234 | 1/18/2013 | 4/17/2013 | CBI | (G) Polymer additive | (G) Substituted hexitol.
P-13-0235 | 1/18/2013 | 4/17/2013 | Georgia-Pacific Chemicals LLC | (G) Emulsifier | (S) Fatty acids, tall-oil, reaction products with diethylenetriamine, maleic anhydride and soybean oil.
P-13-0236 | 1/22/2013 | 4/21/2013 | CBI | (G) Pigment dispersant | (G) Vegetable-oil fatty acids, conjucted, anhydride ester, reaction products with substituted amine, tall-oil acids anhydride ester and substituted amine.
P-13-0237 | 1/22/2013 | 4/21/2013 | Tire Recycling & Processing LLC | (S) Raw feed stock for refineries | (S) Tires, wastes, pyrolyzed, C2-14 oil fraction.
P-13-0238 | 1/23/2013 | 4/22/2013 | CBI | (G) Catalyst | (G) Tertiary amine catalyst.
P-13-0239 | 1/24/2013 | 4/23/2013 | Sika Corporation | (G) Roof membrane hardener | (G) Amine adduct.
P-13-0240 | 1/25/2013 | 4/24/2013 | Carboline Company | (G) Coating component | (G) Alkyl ketimine; alpha-hydroxyamine; alkyl ketimine.
P-13-0241 | 1/24/2013 | 4/23/2013 | Marshallton Research Laboratories, Inc | (G) Waste remediation | (G) Alkyl guanidine hydrochloride.
P-13-0242 | 1/29/2013 | 4/28/2013 | Hi-tech Color, Inc. | (S) Pigment dispersant for water base inks | (S) 2-propenoic acid, 2-methyl-, polymer with cyclohexyl 2-methyl-2-propenoate, methyl 2-methyl-2-propenoate and phenylmethyl 2-methyl-2-propenoate, 2,2'-(1,2-diazenediyl)bis[4-methoxy-2,4-dimethylpentanenitrile]-initiated.
P-13-0243 | 1/29/2013 | 4/28/2013 | Hi-tech Color, Inc. | (G) Back coating agent | (G) Siloxanes and silicones, di-alkyl, 3-aminopropyl group-terminated, polymer with 1,3-alkanediol, substituted diisocyanates.
P-13-0244 | 1/30/2013 | 4/29/2013 | CBI | (S) Polymeric binder for coatings | (G) Aliphatic polyurethane.
P-13-0245 | 1/30/2013 | 4/29/2013 | Cytec Industries Inc. | (S) Coating resin | (G) Substituted alkanoic acid, polymers with substituted alkylamide, substituted carbomonocycle, substituted alkanoates.
P-13-0246 | 1/31/2013 | 4/30/2013 | Umicore USA Inc. | (G) Additive/reactant | (G) Cobalt based polymer with fatty acids, and polyol.
P-13-0247 | 2/1/2013 | 5/1/2013 | CBI | (G) Component of footwear | (G) Dicarboxylic acid, polymer with dicarboxylic acid, substituted carbomonocycle and alkanediol.
P-13-0248 | 2/1/2013 | 5/1/2013 | CBI | (G) Electrolyte | (G) Lithium salt of substituted imide.
P-13-0249 | 2/1/2013 | 5/1/2013 | The Lewis Chemical Company | (S) Corrosion inhibitor for oilfield applications | (G) Dihydroxypropyl PEG linoleamonium chloride.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—2 TMEs Received From 1/14/13 to 2/08/13
Case No. | Received date | Projected notice end date | Manufacturer/importer | Use | Chemical
T-13-0006 | 1/30/2013 | 3/15/2013 | Cytec Industries Inc. | (S) Coating resin | (G) Substituted alkanoic acid, polymer with substituted alkylamide, substituted carbomonocycle, substituted alkanoates.
T-13-0007 | 1/31/2013 | 3/16/2013 | H.B. Fuller Company | (G) Industrial adhesive | (G) Fatty acids, c18-unsaturated dimers, polymers with alkane acid, 1,6-hexanediol, 1,1′-methylenebis[4-isocyanatobenzene] and neopentyl glycol.

In Table III. of this unit, EPA provides the following information (to the extent that such information is not claimed as CBI) on the NOCs received by EPA during this period: The EPA case number assigned to the NOC, the date the NOC was received by EPA, the projected end date for EPA's review of the NOC, and chemical identity.

Table III—29 NOCs Received From 1/14/13 to 2/08/13
Case No. | Received date | Commencement notice end date | Chemical
P-07-0122 | 1/25/2013 | 12/27/2012 | (G) Glycerol fatty acid ester.
P-08-0304 | 1/15/2013 | 12/17/2012 | (G) Substituted carbocycle, [(N-carbocycleamino)-heterocycle-yl]-bis-.
P-10-0181 | 1/16/2013 | 1/10/2013 | (G) Phenyl glycidyl ether derivative.
P-11-0060 | 1/29/2013 | 1/16/2013 | (G) Methylenebis, polymer with alkanedioic acid, alkylene glycols, alkoxylated alkanepolyol and substituted trialkoxysilane.
P-11-0232 | 1/30/2013 | 1/17/2013 | (G) Acryloxy functional siloxane.
P-12-0028 | 1/21/2013 | 1/17/2013 | (S) D-glucopyranose, oligomeric, C10-16-alkyl glycosides, 2,3-dihydroxypropyl ethers, hydrogen succinates, sodium salts, polymers with 1,3-dichloro-2-propanol.
P-12-0062 | 1/30/2013 | 1/17/2013 | (G) Dimethylalkoxylated polydimethylsiloxane and methoxy functional silica.
P-12-0224 | 1/30/2013 | 1/25/2013 | (G) Ester.
P-12-0240 | 1/11/2013 | 12/17/2012 | (G) Ammonium molybdenum tungsten nickel hydroxide maleate.
P-12-0257 | 1/16/2013 | 1/1/2013 | (G) Brominated by-product stream.
P-12-0260 | 1/30/2013 | 1/20/2013 | (G) Brominated aliphatic alcohol.
P-12-0312 | 1/21/2013 | 1/3/2013 | (S) Aluminoxanes, me.
P-12-0332 | 1/30/2013 | 1/17/2013 | (G) Brominated distillation bottoms.
P-12-0448 | 1/22/2013 | 1/7/2013 | (S) Zirconium, dichloro[[(1,2,3,4,5-.eta.)-3-(1,1-dimethylethyl)-2,4-cyclopentadien-1-ylidene] (1-methylethylidene) [(1,2,3,3a,7a-.eta.)-2-methyl-1H-inden-1-ylidene]]-.
P-12-0464 | 1/14/2013 | 12/22/2012 | (S) Iodonium, diphenyl-, 4,4′-di-C10-13 alkyl derivates., (oc-6-11)-hexafluoroantimonates(1-).
P-12-0475 | 1/31/2013 | 1/30/2013 | (S) Butanoic acid, 2-methyl-5-(1-methylethyl)cyclopentyl ester.
P-12-0492 | 1/21/2013 | 12/22/2012 | (G) Alkylphenol.
P-12-0559 | 1/22/2013 | 1/17/2013 | (G) Acrylic silane polymer.
P-12-0560 | 1/11/2013 | 12/19/2012 | (S) Slimes and sludges, aluminum and iron casting, wastewater treatment, solid waste.
P-12-0567 | 1/31/2013 | 1/29/2013 | (G) Polyethylene glycol, polymer with diisocyanate, alkanol-blocked.
P-12-0571 | 1/16/2013 | 1/14/2013 | (G) Halogenated diketopyrrolopyrrol derivative.
P-13-0001 | 2/1/2013 | 1/29/2013 | (G) Vegetable-oil fatty acids, conjugated, polymers with substituted propanoic acid, polyol, anhydride, polyethylene glycol, propylene glycol and trimethylolpropane.
P-13-0003 | 1/15/2013 | 1/14/2013 | (G) Castor oil, polymer with glycol and phthalic anhydride.
P-13-0014 | 2/1/2013 | 1/29/2013 | (G) Substituted carboxylic acid, compound with hetermonocyclic polymer with substituted carboxylic acid, substituted heteromonocycle and heteromonocycle.
P-13-0016 | 1/21/2013 | 1/10/2013 | (S) 1,4-butanediol, polymer with 1,4-diisocyanatobenzene and -hydro-hydroxypoly(oxy-1,4-butanediyl).
P-13-0025 | 1/30/2013 | 1/9/2013 | (G) Acid modified petroleum residuum.
P-13-0026 | 1/30/2013 | 1/9/2013 | (G) Acid modified petroleum residuum.
P-13-0027 | 1/30/2013 | 1/9/2013 | (G) Acid modified petroleum residuum.
P-13-0029 | 1/21/2013 | 1/10/2013 | (S) Automotive metal recovery.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: March 4, 2013.
Chandler Sirmons,
Acting Director, Information Management Division, Office of Pollution Prevention and Toxics.

[FR Doc. 2013-06684 Filed 3-21-13; 8:45 am]

BILLING CODE 6560-50-P